ENVIRONMENTAL PROTECTION AGENCY

40 CFR Parts 72, 74, and 78

[FRL-6930-8]

Acid Rain Program—Permits Rule Revision, Industrial Utility-Units Exemption

AGENCY: Environmental Protection Agency.

ACTION: Proposed rule.

SUMMARY: The Environmental Protection Agency (EPA) is proposing to remove the provision for the industrial utility-units exemption in the permits rule for the Acid Rain Program under title IV of the Clean Air Act (Act). The purpose of the Acid Rain Program is to significantly reduce emissions of sulfur dioxide and nitrogen oxides from utility electric generating plants in order to reduce the adverse health and ecological effects of acidic deposition (or acid rain) resulting from these emissions. In January 1993, EPA issued rules implementing the program, including the permits rule. In October 1997, EPA revised the permits rule in order to add, among other things, a provision establishing a limited exemption from the program for certain industrial boilers (referred to as “industrial utility-units”). One party filed a petition for review challenging the industrial utility-units exemption. On August 23, 2000, EPA and the petitioning party signed a settlement agreement addressing the exemption provision. Today, EPA is proposing to remove the industrial utility-units exemption. This action is consistent with the August 23, 2000 settlement.

DATES: If you want to submit any written comments on this proposed rule, EPA must receive the written comments by April 16, 2001.

Public Hearing: If you want to request a public hearing, you must submit a written request, which EPA must receive by March 8, 2001. Refer to the EPA website at http://www.epa.gov/acidrain to determine if a public hearing has been requested and will be held.

ADDRESSES: Comments: If you submit any written comments on this proposed rule, the comments must reference Docket No. A-95-56 and must be submitted in duplicate to EPA's Air and Radiation Docket and Information Center (6102), 401 M Street, SW., Room M-1500, Washington, DC 20460.

Docket: Docket No. A-95-56, containing supporting information used in developing the direct final rule, is available for public inspection and copying between 8:30 a.m. and 5:30 p.m., Monday through Friday, at EPA's Air and Radiation Docket and Information Center at the above address. EPA may charge a reasonable fee for copying.

FOR FURTHER INFORMATION CONTACT: Dwight C. Alpern, at (202) 564-9151, U.S. Environmental Protection Agency, 1200 Pennsylvania Ave., NW., (6204J), Washington, DC 20460; or the Acid Rain Hotline at (202) 564-9089.

SUPPLEMENTARY INFORMATION: EPA is proposing to remove the industrial utility-units exemption in the permits rule for the Acid Rain Program. In the “Rules and Regulations” section of today's Federal Register, we are vacating the exemption as a direct final rule because we view the vacating of the exemption as noncontroversial and anticipate no adverse comment. We have explained our reasons for the vacating of the exemption in the preamble to the direct final rule. If we receive no timely, adverse comment, we will not take further action on this proposed rule. If we receive timely, adverse comment, we will withdraw the direct final rule and it will not take effect. We will then address all public comments in a subsequent final rule based on this proposed rule. We will not institute a second comment period on this action. Any parties interested in commenting must do so at this time.

List of Subjects in 40 CFR Parts 72, 74, and 78

Environmental protection, Acid rain program, Administrative practice and procedure, Air pollution control, Electric utilities, Permits, Reporting and recordkeeping requirements, Sulfur dioxide.

Dated: January 3, 2001.
Carol M. Browner,
Administrator.

[FR Doc. 01-722 Filed 2-28-01; 8:45 am]

BILLING CODE 6560-50-U